DEPARTMENT OF HEALTH AND HUMAN SERVICES

National Institutes of Health

National Cancer Institute (NCI); National Institute of Allergy and Infectious Diseases (NIAID); National Institute of Arthritis and Musculoskeletal and Skin Diseases (NIAMS); and Office of Research on Women's Health (ORWH), Office of the Director (OD), NIH

AGENCY: National Institutes of Health (NIH).

ACTION: Notice of Open Conference.

Notice is hereby given that the NIH, an agency of the Department of Health and Human Services, in collaboration with the Lupus Foundation of America, Washington, DC, will hold a scientific conference.

Title: “Systemic Lupus Erythematosus: From Mouse Models to Human Disease and Treatment.”

Dates: September 2-3, 2010.

Location: Lister Hill Auditorium, Building 38A, NIH, Bethesda, Maryland.

Purpose of the Meeting

This meeting will bring basic research scientists working on models of autoimmune disease relevant to lupus together with clinicians treating lupus patients. There are numerous mouse models of lupus, but their relevance to the actual disease is still a subject for debate. Thus it is the purpose of this meeting to have participants discuss similarities, as well as differences, in mouse models with respect to the disease with the clinicians who actually treat patients. In addition, input is encouraged from clinical attendees regarding what markers in an animal model would be most important for monitoring the disease and assessing the effectiveness of treatment. It is hoped that one consequence of this meeting might be some consensus as to what is most important in any animal model and what animal models might be most useful in developing new markers and treatments for the disease. For more information, including the agenda and registration for this conference, please see http://web.ncifcrf.gov/events/SystemicLupus/default.asp.

Contacts:

Howard Young: Senior Investigator, NCI, NIH; 301-846-5700; younghow@mail.nih.gov.

Silvia Bolland: Senior Investigator, NIAID, NIH; 301-443-3158; sb455w@nih.gov.

Juan Rivera: Senior Investigator, NIAMS, NIH; 301-496-7592; riveraj@mail.nih.gov.

Lisa Begg: Director of Research, ORWH, OD, NIH; 301-496-7853; beggl@od.nih.gov.

Dated: May 5, 2010.
Francis S. Collins,
Director, National Institutes of Health.

[FR Doc. 2010-11169 Filed 5-10-10; 8:45 am]

BILLING CODE 4140-01-P